DEPARTMENT OF ENERGY

Federal Energy Regulatory Commission

[Docket No. EC02-20-000, et al.]

Green Country Energy, LLC, et al.; Electric Rate and Corporate Regulation Filings

November 13, 2001.

Take notice that the following filings have been made with the Commission:

1. Green Country Energy, LLC

[Docket Nos. EC02-20-000 and EL02-17-000]

Take notice that on November 6, 2001, Green County Energy, LLC (Applicant) tendered for filing with the Federal Energy Regulatory Commission (Commission), an application pursuant to Section 203 of the Federal Power Act for authorization to transfer certain jurisdictional facilities to one or more special purpose limited liability companies for purposes of a sale-leaseback financing. Applicant is developing a 795 MW (summer rated) generating facility (Facility) located in Jenks, Oklahoma. Applicant also requests that the Commission disclaim jurisdiction under the FPA with respect to the passive owner/lessor that will assume ownership of the Facility for financing purposes only.

Comment date: November 27, 2001, in accordance with Standard Paragraph E at the end of this notice.

2. Allegheny Energy Supply Company, LLC

[Docket No. EC02-21-000]

Take notice that on November 7, 2001, Allegheny Energy Supply Company, LLC, filed with the Federal Energy Regulatory Commission (Commission) an application pursuant to Section 203 of the Federal Power Act for authorization for a leaseback-type financing transaction involving Hatfield's Ferry Power Station. The Applicant has requested Commission action on an expedited basis.

Comment date: November 28, 2001, in accordance with Standard Paragraph E at the end of this notice.

3. Calpine Eastern Corporation Mirant Americas Energy Marketing, L.P. Mirant New England, LLC Mirant Canal, LLC and FPL Energy, LLC v. ISO New England Inc.

[Docket No. EL01-124-001]

ISO New England Inc.

[Docket No. ER01-2559-003]

Take notice that on November 5, 2001, ISO New England Inc. made a compliance filing in response to the October 24, 2001 Order in these Dockets.

Copies of said filing have been served upon all parties to this proceeding, and upon NEPOOL Participants, as well as upon the utility regulatory agencies of the six New England States.

Comment date: December 5, 2001, in accordance with Standard Paragraph E at the end of this notice.

4. Ameren Services Company

[Docket Nos. ER01-1136-003]

Take notice that on November 7, 2001 Ameren Services Company, on behalf of Ameren Operating Companies, submitted the compliance filing to the Federal Energy Regulatory Commission (Commission) required by the Commission's October 23, 2001 order in Docket Nos. ER01-1136-000, ER01-1136-001, and ER01-1136-002. Copies of this filing were served on all parties included on the Commission's official service list established in this proceeding and on all affected state commissions.

Comment date: November 28, 2001, in accordance with Standard Paragraph E at the end of this notice.

5. Madison Gas and Electric Company

[Docket No. ER02-288-000]

Take notice that on November 8, 2001, Madison Gas and Electric Company (MGE) tendered for filing with the Federal Energy Regulatory Commission (Commission) a Generation-Transmission Must Run Agreement with American Transmission Company LLC. The Must Run Agreement governs the terms and conditions for the dispatch of must run generation from Blount Generating Station in Madison, Wisconsin, to maintain the reliability of ATCLLC's transmission system. MGE requests that the Must Run Agreement be made effective on December 15, 2001.

Copies of the filing were served on the American Transmission Company LLC and the Public Service Commission of Wisconsin.

Comment date: November 29, 2001, in accordance with Standard Paragraph E at the end of this notice.

6. Midwest Generation, LLC

[Docket No. ER02-289-000]

Take notice that on November 8, 2001, Midwest Generation, LLC. (Midwest), tendered for filing with the Federal Energy Regulatory Commission (Commission) a Third Revised Service Agreement No. 1 under Midwest's FERC Electric Tariff, Original Volume No. 1 (the Collins Generating Station Power Purchase Agreement between Commonwealth Edison Company and Midwest) and First Revised Service Agreement No. 3 under Midwest's FERC Electric Tariff, Original Volume No. 1 (the Coal Generating Stations Power Purchase Agreement between Commonwealth Edison Company and Midwest).

Comment date: November 29, 2001, in accordance with Standard Paragraph E at the end of this notice.

7. Midwest Independent Transmission System Operator, Inc.

[Docket No. ER02-290-000]

Take notice that on November 8, 2001, the Midwest Independent Transmission System Operator, Inc. (Midwest ISO) filed with the Federal Energy Regulatory Commission (Commission) a compliance filing for the implementation of the Midwest ISO Process for the Use of Network Resources Outside of the Midwest ISO and Evaluation of Competing Requests for Point-to-Point Transmission Service.

The Midwest ISO requested that the Commission determine that the proposed processes shall become effective prior to December 15, 2001.

Copies of this filing were electronically served upon Midwest ISO Members, Member representatives of Transmission Owners and Non-Transmission Owners, the Midwest ISO Advisory Committee participants, Policy Subcommittee participants, as well as all state commissions within the region.

Comment date: November 29, 2001, in accordance with Standard Paragraph E at the end of this notice.

8. Wisconsin Public Service Corporation

[Docket No. ER02-291-000]

Take notice that on November 8, 2001, Wisconsin Public Service Corporation (Public Service) tendered for filing with the Federal Energy Regulatory Commission (Commission) four Generation-Transmission Must Run Agreements with American Transmission Company, LLC (ATCLLC). The Must Run Agreements govern the terms and conditions for the dispatch of real and reactive power from Public Service's Pulliam, West Marinette, Weston, and DePere Energy Center Plants to maintain the reliability of ATCLLC's transmission system. Public Service requests that the Must Run Agreements be made effective on December 15, 2001.

Copies of the filing were served upon ATCLLC and the Public Service Commission of Wisconsin.

Comment date: November 29, 2001, in accordance with Standard Paragraph E at the end of this notice.

9. Entergy Nuclear Indian Point 2, LLC

[Docket Nos. ER02-292-000]

Take notice that on November 8, 2001, Entergy Nuclear Indian Point 2, LLC (ENIP2) filed with the Federal Energy Regulatory Commission (Commission) a Capacity Purchase Agreement between ENIP2 and Consolidated Edison Company of New York, Inc. for the long-term sale of installed capacity from the Indian Point 2 Nuclear Generating Station to commence November 1, 2001. The filing is made pursuant to ENIP2's market-based rate tariff, FERC Electric Tariff, Original Volume No. 1.

Comment date: November 29, 2001, in accordance with Standard Paragraph E at the end of this notice.

10. Virginia Electric and Power Company

[Docket No. ER02-293-000]

Take notice that on November 8, 2001, Virginia Electric and Power Company (Dominion Virginia Power) tendered for filing with the Federal Energy Regulatory Commission (Commission) Notice of Termination of Non-Firm Point-To-Point Transmission Service Agreement with Entergy Power Marketing Corp. designated as First Revised Service Agreement No. 107 under FERC Electric Tariff, Second Revised Volume No. 5. Copies of the filing were served upon the Entergy Power Marketing Corp., Virginia State Corporation Commission and the North Carolina Utilities Commission.

Dominion Virginia Power respectfully requests an effective date of the termination of the Service Agreement of January 7, 2002, which is sixty (60) days from the date of filing of the Letter of Termination.

Comment date: November 29, 2001, in accordance with Standard Paragraph E at the end of this notice.

11. Virginia Electric and Power Company

[Docket No. ER02-294-000]

Take notice that on November 8, 2001, Virginia Electric and Power Company (Dominion Virginia Power) tendered for filing with the Federal Energy Regulatory Commission (Commission) Notice of Termination of Firm Point-To-Point Transmission Service Agreement with Entergy Power Marketing Corp. designated as First Revised Service Agreement No. 188 under FERC Electric Tariff, Second Revised Volume No. 5. Copies of the filing were served upon the Entergy Power Marketing Corp., Virginia State Corporation Commission and the North Carolina Utilities Commission.

Dominion Virginia Power respectfully requests an effective date of the termination of the Service Agreement of January 7, 2002, which is sixty (60) days from the date of filing of the Letter of Termination.

Comment date: November 28, 2001, in accordance with Standard Paragraph E at the end of this notice.

12. Virginia Electric and Power Company

[Docket No. ER02-295-000]

Take notice that on November 8, 2001, Virginia Electric and Power Company (Dominion Virginia Power) tendered for filing with the Federal Energy Regulatory Commission (Commission) Notice of Termination of Non-Firm Point-To-Point Transmission Service Agreement with Koch Energy Trading, Inc. designated as First Revised Service Agreement No. 183 under FERC Electric Tariff, Second Revised Volume No. 5. Copies of the filing were served upon the Koch Energy Trading, Inc., Virginia State Corporation Commission and the North Carolina Utilities Commission.

Dominion Virginia Power respectfully requests an effective date of the termination of the Service Agreement of January 7, 2002, which is sixty days from the date of filing of the Letter of Termination.

Comment date: November 29, 2001, in accordance with Standard Paragraph E at the end of this notice.

13. Virginia Electric and Power Company

[Docket No. ER02-296-000]

Take notice that on November 8, 2001, Virginia Electric and Power Company (Dominion Virginia Power) tendered for filing with the Federal Energy Regulatory Commission (Commission) Notice of Termination of Firm Point-To-Point Transmission Service Agreement with Koch Energy Trading designated as First Revised Service Agreement No. 134 under FERC Electric Tariff, Second Revised Volume No. 5. Copies of the filing were served upon the Koch Energy Trading, Virginia State Corporation Commission and the North Carolina Utilities Commission.

Dominion Virginia Power respectfully requests an effective date of the termination of the Service Agreement of January 7, 2002, which is sixty (60) days from the date of filing of the Letter of Termination.

Comment date: November 29, 2001, in accordance with Standard Paragraph E at the end of this notice.

14. Virginia Electric and Power Company

[Docket No. ER02-297-000]

Take notice that on November 8, 2001, Virginia Electric and Power Company (Dominion Virginia Power) tendered for filing with the Federal Energy Regulatory Commission (Commission) Notice of Termination of Service Agreement with FPL Energy Services, Inc. designated as First Revised Service Agreement No. 173 under FERC Electric Tariff, Third Revised Volume No. 4. Copies of the filing were served upon the FPL Energy Services, Inc., Virginia State Corporation Commission and the North Carolina Utilities Commission.

Dominion Virginia Power respectfully requests a waiver of the Commission's regulation to permit an effective date of November 16, 2001, as requested by FPL Energy Services, Inc.

Comment date: November 28, 2001, in accordance with Standard Paragraph E at the end of this notice.

15. Thompson River Co-Gen, LLC

[Docket No. ER02-298-000]

Take notice that on November 8, 2001, Thompson River Co-Gen, LLC (Thompson) petitioned the Federal Energy Regulatory Commission (Commission) for acceptance of Thompson Rate Schedule FERC No. 1; the granting of certain blanket approvals, including the authority to sell electricity at market-based rates, and waiver of certain Commission regulations.

Thompson intends to sell at wholesale electricity generated from a 12½ megawatt cogeneration facility located in Thompson Falls, Montana, to Montana Power Company (MPC). Thompson does not intend to make other wholesale sales of electricity to any entity other than MPC. Thompson is an LLC with passive ownership interests, and Barry Bates and Lawrence Underwood are the General Partners and will manage the day-to-day business of Thompson. Thompson has no legal or economic interest, and is not in any way related to, any utility or other entity that owns any generation, transmission or other jurisdictional facilities.

Comment date: November 29, 2001, in accordance with Standard Paragraph E at the end of this notice.

16. Wisconsin Power and Light Company

[Docket No. ER02-299-000]

Take notice that on November 9, 2001, Wisconsin Power and Light Company (WP&L) tendered for filing with the Federal Energy Regulatory Commission (Commission) two Generation-Transmission Must Run Agreements with American Transmission Company, LLC. The Must Run Agreements govern the terms and conditions for the dispatch of real and reactive power from WP&L's Columbia Energy Center Plant and the Rock County Plants to maintain the reliability of ATCLLC's transmission system. WP&L requests that the Must Run Agreements be made effective on December 15, 2001.

Comment date: November 29, 2001, in accordance with Standard Paragraph E at the end of this notice.

Standard Paragraph:

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28901 Filed 11-19-01; 8:45 am]

BILLING CODE 6717-01-P